DEPARTMENT OF TRANSPORTATION

Federal Motor Carrier Safety Administration

49 CFR Part 384

[Docket No. FMCSA-2023-0269]

RIN 2126-AC68

Commercial Driver's License (CDL) Standards; Incorporation by Reference of a New State Procedures Manual (SPM)

AGENCY: Federal Motor Carrier Safety Administration (FMCSA), Department of Transportation (DOT).

ACTION: Final rule.

SUMMARY: FMCSA amends the Federal Motor Carrier Safety Regulations (FMCSRs) to incorporate by reference the most recent edition of the American Association of Motor Vehicle Administrators, Inc.'s (AAMVA's) Commercial Driver's License Information System (CDLIS) State Procedures Manual (SPM), version c.0. This rule will require all State driver's licensing agencies (SDLAs) to use this edition of the manual to follow standard administrative practices required by the States, and other jurisdictions using the SPM when participating in CDLIS. Version c.0 of the CDLIS SPM provides users with instructions on the processes and procedures for using the information system.

DATES: Effective July 15, 2024. The incorporation by reference of the material described in the rule is approved by the Director of the Federal Register as of July 15, 2024. Petitions for Reconsideration of this final rule must be submitted to the FMCSA Administrator no later than July 15, 2024.

FOR FURTHER INFORMATION CONTACT: Ms. Rebecca Rehberg, CDL Division, FMCSA, 1200 New Jersey Avenue SE, Washington, DC 20590-0001; (850) 728-2034, cdlcompliance@dot.gov. If you have questions on viewing or submitting material to the docket, call Dockets Operations at (202) 366-9826. FMCSA organizes this final rule as follows:

I. Availability of Rulemaking Documents

II. Executive Summary

III. Abbreviations

IV. Legal Basis

V. Background

VI. Discussion of Proposed Rulemaking and Comments

A. Proposed Rulemaking

B. Comments and Responses

VII. Changes From the NPRM

VIII. Section-by-Section Analysis

IX. Regulatory Analyses

A. E.O. 12866 (Regulatory Planning and Review), E.O. 13563 (Improving Regulation and Regulatory Review), E.O. 14094 (Modernizing Regulatory Review), and DOT Regulatory Policies and Procedures

B. Congressional Review Act

C. Regulatory Flexibility Act

D. Assistance for Small Entities

E. Unfunded Mandates Reform Act of 1995

F. Paperwork Reduction Act

G. E.O. 13132 (Federalism)

H. Privacy

I. E.O. 13175 (Indian Tribal Governments)

J. National Environmental Policy Act of 1969

I. Availability of Rulemaking Documents

To view any documents mentioned as being available in the docket, go to www.regulations.gov/docket/FMCSA-2023-0269/document and choose the document to review. To view comments, click this final rule, then click “Browse Comments.” If you do not have access to the internet, you may view the docket online by visiting Dockets Operations at U.S. Department of Transportation, 1200 New Jersey Avenue SE, Washington, DC 20590-0001, between 9 a.m. and 5p.m., Monday through Friday, except Federal holidays. To be sure someone is there to help you, please call (202) 366-9317 or (202) 366-9826 before visiting Dockets Operations.

II. Executive Summary

A. Purpose and Summary of the Regulatory Action

In this final rule, FMCSA incorporates by reference version c.0 of the Commercial Driver's License Information System (CDLIS) State Procedures Manual (SPM), which the American Association of Motor Vehicle Administrators, Inc. (AAMVA) released in September 2023. In 2014, FMCSA incorporated by reference version 5.3.2.1 of the CDLIS SPM, which AAMVA released in August 2013 (79 FR 59450 (Oct. 2, 2014)). Version c.0 of the CDLIS SPM has replaced the 2013 version. The CDLIS SPM (version c.0) provides user instructions on the information system processes and procedures of the CDL program. This change reflects a routine update of the referenced SPM (version c.0) to include changes introduced in connection with the exclusively electronic exchange of driver history record information (EEE, 86 FR 38937) procedures and the second drug and alcohol clearinghouse final rule (DACH II or Clearinghouse, 86 FR 55718) information.

The material is available, and will continue to be available, for inspection at the Department of Transportation Library. Copies of the SPM (version c.0) may also be obtained through AAMVA. Further details, including contact addresses and telephone numbers, for both the Department of Transportation Library and AAMVA are provided in § 384.107 in the amendatory text of this final rule. AAMVA plans to update this SPM as needed to reflect changing legal requirements and best practices in the operations of CDLIS. Incorporating version c.0 by reference, however, should ensure that each State complies with the specific version required by FMCSA.

Twenty-six updates distinguish the September 2023 edition of the SPM (version c.0) from the August 2013 edition. The updates are all described in detail in the February 20, 2023, notice of proposed rulemaking (NPRM) for this rule (89 FR 12800). The incorporation by reference of the September 2023 edition does not impose new regulatory requirements and consequently will neither impose costs nor result in quantifiable benefits.

III. Abbreviations

AAMVA American Association of Motor Vehicle Administrators

AAMVAnet American Association of Motor Vehicle Administrators Network

CDL Commercial Driver's License

CDLIS Commercial Driver's License Information System

CE Categorical Exclusion

CFR Code of Federal Regulations

CLP Commercial Learner's Permit

CMV Commercial Motor Vehicle

CMVSA Commercial Motor Vehicle Safety Act

DACH Drug and Alcohol Clearinghouse

DGAF General Directorship of Federal Motor Carrier Transportation

DOT Department of Transportation

EEE Exclusively Electronic Exchange

E.O. Executive Order

FHWA Federal Highway Administration

FMCSA Federal Motor Carrier Safety Administration

FMCSRs Federal Motor Carrier Safety Regulations

FR Federal Register

NARA National Archives and Records Administration

NPRM Notice of Proposed Rulemaking

PIA Privacy Impact Analysis

PII Personally Identifiable Information

PTA Privacy Threshold Assessment

RFA Regulatory Flexibility Act

RTD Return to Duty

SDLA State Driver's Licensing Agency

SPEXS State Pointer Exchange Services

SPM State Procedures Manual

S2S State-to-State ¹

¹ The acronym S2S is solely used for the purposes of this document to refer to processes involving State-to-State interactions and should not be confused with the CDLIS application system.

The Secretary The Secretary of Transportation

UMRA Unfunded Mandates Reform Act

U.S.C. United States Code

IV. Legal Basis

Section 206 of the Motor Carrier Safety Act of 1984 (Pub. L. 98-554, title II, 98 Stat. 2832, 2834, codified at 49 U.S.C. 31136) directed the Secretary of Transportation (the Secretary) to regulate commercial motor vehicles (CMVs) and the drivers and motor carriers that operate them. The Secretary was also directed to issue regulations governing the physical condition of drivers.

The Commercial Motor Vehicle Safety Act of 1986 (CMVSA) (Pub. L. 99-570, title XII, 100 Stat. 3207-170, codified at 49 U.S.C. chapter 313) required the Secretary, after consultation with the States, to prescribe regulations on minimum uniform standards for State issuance of CDLs. CMVSA also specified information States must include on each CDL (49 U.S.C. 31308). Congress delegated the authorities set forth in the Motor Carrier Safety Act of 1984 and the CMVSA to FMCSA's Administrator (see 49 U.S.C. 113(f)(1); see also sec. 1.87(e)-(f)).

FMCSA, in accordance with 49 U.S.C. 31308, has authority to prescribe procedures and requirements the States must adhere to in issuing CDLs and commercial learner's permits (CLPs). To avoid loss of Federal-aid highway funds, 49 U.S.C. 31314 requires each State to comply substantially with 49 U.S.C. 31311(a), which prescribes the requirements for State participation in the CDL program. To ensure that the States are able to exchange information about CDL holders efficiently and effectively through CDLIS, as required by 49 U.S.C. 31311(a)(5) through (9), (15), (18), (19), and (21), this final rule will require States to follow all the procedures described in version c.0 of the CDLIS SPM when posting, transmitting, and receiving all information on a CDL driver's CDLIS driver record.

FMCSA is further required by statute to maintain an information system that serves as the clearinghouse and depository of information about the licensing, identification, and disqualification of operators of CMVs (49 U.S.C. 31309). CDLIS is the information system that serves that function.

The purpose of this final rule is to incorporate by reference version c.0 of the AAMVA SPM outlining user instructions on the use of CDLIS. The provisions within the SPM (version c.0) are intended to operate holistically in addressing a range of issues necessary to ensure compliance with the information system procedures of the commercial driver's license program. However, FMCSA recognizes that most provisions focus on unique topics. FMCSA finds that the various provisions within the SPM (version c.0) will be severable and able to operate functionally if one or more provisions were rendered null or otherwise eliminated. The remaining provision or provisions within the SPM (version c.0) will continue to operate functionally if any one or more provisions were invalidated and any other provision(s) remained. In the event a court were to invalidate one or more of the SPM's unique provisions, the remaining provisions should stand.

V. Background

To carry out its obligation to maintain a system for information about CMV operators, in 1988, the Federal Highway Administration (FHWA) entered into a designation agreement with AAMVA's affiliate AAMVAnet,² Inc. (AAMVAnet) to create and operate CDLIS. Under that agreement, CDLIS must contain all the information required in 49 U.S.C. 31309(b). The 1988 agreement states that AAMVAnet will “cooperate fully with FHWA with respect to the operation of CDLIS including, but not limited to, information content and the development of standards relating to access to CDLIS by States and various employers and employees.” Pursuant to section 106(b) of the Motor Carrier Safety Improvement Act of 1999 (MCSIA) (Pub. L. 106-159, 113 Stat. 1748, 1757, 49 U.S.C. 113 note), the 1988 agreement automatically transferred to FMCSA upon the Agency's establishment and remained in effect until FMCSA and AAMVA, the party that inherited the responsibilities of its affiliate AAMVAnet, entered into a superseding agreement in 2008, discussed below.

² AAMVAnet is the telecommunications network that electronically links the following systems: The jurisdictions (motor vehicle Agencies or Department of motor vehicles), FMCSA, third-party service providers, Canadian interprovincial record exchange Bridge, Mexican Access Node, and the CDLIS central site.

In August 2005, section 4123 of the Safe, Accountable, Flexible, Efficient Transportation Equity Act: A Legacy for Users authorized FMCSA to establish a modernization plan for CDLIS (Pub. L. 109-59, 119 Stat. 1144, 1734, codified in part at 49 U.S.C. 31309(e) et seq.). Section 4123 also authorized grants to States or organizations representing States for the modernization of CDLIS (49 U.S.C. 31309(f)).

On May 2, 2006, FMCSA published the CDLIS Modernization Plan in the Federal Register (71 FR 25885). The Plan detailed the statutory requirements for modernization, the phases of the modernization plan, and the availability of grant funding for AAMVA and the States to comply with CDLIS modernization requirements. Since May 2006, AAMVA has received grants from FMCSA to complete the tasks enumerated in the Modernization Plan.

On June 9, 2008, FMCSA and AAMVA entered into a new cooperative agreement regarding the operation, maintenance, and modernization of CDLIS. While FMCSA authorizes AAMVA to maintain and operate CDLIS, FMCSA does not own CDLIS, and it is not a Federal system of records. FMCSA and AAMVA work closely together to monitor State compliance with the CDLIS specifications, as set forth in the 2006 CDLIS Modernization Plan, and States' annual grant agreements. FMCSA has awarded Federal financial assistance grants to AAMVA to maintain an active Help Desk for the jurisdictions, conduct regularly occurring CDLIS training courses for the jurisdictions, and provide States with regular CDLIS transaction and error reports to improve their compliance efforts.

The goals of the 2008 agreement, to which any amendments must be made in writing and signed by all parties,³ are to provide a framework for the ongoing operation, maintenance, administration, enhancement, and modernization of CDLIS by AAMVA. The modernization will ensure compliance with applicable Federal information technology security standards; electronic exchange of all information including the posting of convictions; self-auditing features to ensure that data are being posted correctly and consistently by the States; and integration of an individual's CDL and the medical certificate as required in the final rule, Medical Certification Requirements as Part of CDL (73 FR 73096, Dec. 1, 2008). Finally, the agreement provides a schedule for modernization of the system. The updated version c.0 of the SPM implements the CDLIS modernization effort.

³ The 2008 agreement was amended in 2013, however, the amendments did not relate to the CDLIS modernization efforts.

VI. Discussion of Proposed Rulemaking and Comments

A. Proposed Rulemaking

FMCSA published an NPRM on February 20, 2024 (89 FR 12800). Because the incorporation by reference found at 49 CFR 384.107(b)(1) references the outdated August 2013, edition of AAMVA's “Commercial Driver's License Information System (CDLIS) State Procedures Manual,” the NPRM proposed to incorporate by reference the current 2023 edition.

Twenty-six updates distinguish the September 2023 edition from the August 2013 edition. Each of the changes was described and discussed in detail in the NPRM. Generally, the changes serve to outline the standard administrative practices required of the fifty States and the District of Columbia, known as “the jurisdictions,” when participating in CDLIS. The thirteen Canadian provinces and territories and the Mexican General Directorship of Federal Motor Carrier Transportation (DGAF) will also adopt version c.0 of the CDLIS SPM. Version c.0 of the SPM supersedes previous versions of the CDLIS SPM.

The SPM (version c.0) contains background information about the laws mandating CDLIS and discusses types of CDLIS users. The SPM (version c.0) also includes descriptions, excerpted from the State Pointer Exchange Services (SPEXS) System Specifications B.0.0, of the nationwide computerized data-exchange transactions used to electronically record and report driver information. Further, the SPM (version c.0) provides user instructions on administrative driver licensing procedures that involve CDLIS, including issuing, renewing, transferring, withdrawing, and reinstating a driver's license, and posting convictions. The SPM (version c.0) does not address CDL or CLP program requirements outside the scope of CDLIS.

The CDLIS SPM (version c.0) addresses changes that were made as part of the modernization effort to make CDLIS more efficient in handling the increasing number of driver records and data transactions. These changes provide users with instructions on the processes and procedures for using the CDL information system. In addition, version c.0 includes updates to support changes made to CDLIS as a result of the DACH II rule, published in October 2021, and revises procedures to support changes made to CDLIS as a result of the EEE rule, published in July 2021. Any references in the SPM (version c.0) to the U.S. Code or CFR should be confirmed by users.

FMCSA contacted AAMVA December 19, 2023, to confirm that the Canadian provinces and territories, as well as Mexico's DGAF would also adopt version c.0 of the CDLIS SPM. On January 10, 2024, FMCSA notified AAMVA that it had inadvertently included incorrect CFR citations in version c.0 of the SPM. Additionally, FMCSA contacted AAMVA on April 8, 2024, to confirm the latest existing release of the SPEXS Specifications System. FMCSA placed a memorandum in the docket for this rulemaking to document the communications between the Agency and AAMVA.

B. Comments and Responses

FMCSA solicited comments concerning the NPRM for 30 days ending March 21, 2024. By that date, two comments were received. AAMVA requested both substantive and technical edits be applied in the final rule, which are discussed in detail. The second comment was submitted by an individual who raised issues involving car accidents.

Comment: AAMVA offered a citation correction in the discussion section (Section VI) to include a reference to the SPEXS System Specifications B.0.1, instead of the CDLIS Systems Specifications (version c.0). This edit provides clarity on the most recent provision of supporting documentation available to the CDLIS system.

FMCSA Response: FMCSA accepts AAMVA's edit in part and has modified the discussion section to incorporate the reference to the SPEXS System Specifications B.0.0. A SPEXS System Specifications B.0.1 has not been released and therefore, FMCSA is unable to include it as a reference.

Comment: The second change AAMVA requested is to add a clarifying edit to update number four in the proposed rule, which discusses CD41 transactions that enable the State of inquiry (SOI) to request a driver's status from the Clearinghouse. The proposed clarifying edit will specify that the driver status may also be reciprocally changed by the driver's successful completion of the return to duty (RTD) process.

FMCSA Response: In version c.0 of the CDLIS SPM, the CD41 transaction is described as a code that enables the SOI to request a driver's current status from the Clearinghouse. As described in the manual, completing the RTD process does not trigger a change in the driver's status, and therefore, does not factor into the CD41 transaction. While FMCSA appreciates AAMVA's clarifying note, this edit is outside the scope of the process described in version c.0 of the CDLIS SPM. Therefore, FMCSA declines to make modifications to the fourth update described in the NPRM.

Comment: AAMVA pointed to the use of the “S2S” acronym in the NPRM, stating the term is specifically used to reference an application in the CDLIS system. AAMVA implied its use would cause confusion with other CDLIS application systems, and they provided examples of where the S2S acronym is used in the document.

FMCSA Response: FMCSA adopted the “S2S” acronym for “State-to-State” to describe in detail processes that involve State-to-State interactions. The use of this acronym should not be confused with the CDLIS application system referencing the S2S (or State-to-State) System.⁴ For purposes of this final rule, S2S, or State-to-State, is used as a reference to electronic transactions that occur between one State and another. To add clarity to the updates described in the NPRM and avoid confusion, FMCSA has included a clarifying footnote addressing the use of the S2S acronym under the “Abbreviations” section of this final rule. FMCSA will also consider use of the full term in future rulemakings if the Agency finds that its use may cause confusion for readers.

⁴ The CDLIS application system AAMVA refers to allows State-to-State (S2S) participants to electronically communicate with one another to check if an individual holds a CDL or CLP in another State.

Comment: AAMVA identified item number five, which discusses the bullet item in the section titled “Procedures for Issuing a CDL or CLP,” and stated that item is not an addition and has existed in version 5.3.2.1 of the SPM.

FMCSA Response: FMCSA agrees that the language used to describe the processes for issuing a CDL or CLP is not an addition to version c.0 of the SPM, as it is present under section 7.1 titled “Rules of Issuance” in release 5.3.2.1 of the SPM. Nonetheless, the bullet item titled “Issuing a duplicate CLP/CDL” is recorded as an additional item in version c.0 of the CDLIS SPM Change Control Document. Furthermore, the bullet item titled “Issuing a Duplicate CLP/CDL” is not listed under section 7 titled “Procedures for Issuing a CDL” in release 5.3.2.1 of the SPM, which lists the following items: issuing, renewing, upgrading, or transferring a CDL. In version c.0 of the SPM, the item titled “Issuing a duplicate CLP/CDL” is added to the list under section 7 titled “Procedures for Issuing a CLP or CDL.” FMCSA appreciates AAMVA's note on this update to enhance clarity but does not modify the language describing the procedures for issuing a duplicate CDL or CLP in this final rule.

Comment: An individual commenter opposed exchanging foreign driver's licenses for U.S. driver's licenses, citing two fatal road accidents.

FMCSA Response: FMCSA appreciates the commenter's concerns about this topic. Because these issues are out of the scope of this incorporation by reference of version c.0 of the CDLIS SPM, the Agency declines to make modifications to the final rule based on this comment.

VII. Changes From the NPRM

FMCSA finalizes the incorporation by reference of the most recent edition of AAMVA's version c.0 of the CDLIS SPM without changes to the updates described in the NPRM. Per AAMVA's request, FMCSA has included two clarifying edits in this final rule. The first edit, which FMCSA adopted in part, is a correction of the citation included in Section III (Abbreviations) to include the SPEX System Specifications B.0.0, instead of version c.0 f the CDLIS SPM. The second edit is the addition of a footnote attached to the “S2S” acronym in sub-section A (Proposed Rulemaking) under Section VI (Discussion of Proposed Rulemaking and Comments). This addition aims to clarify that the term “S2S” is strictly used for the purposes of this final rule to reference State-to-State processes, and not the CDLIS system application.

VIII. Section-by-Section Analysis

Part 384

Section 384.107. The Agency will revise paragraph (b) to incorporate by reference version c.0 of the CDLIS SPM.

Section 384.301. The Agency will add, as a conforming amendment, a new paragraph (p) specifying that the State must comply with the requirements of this rule by August 22, 2024.

IX. Regulatory Analyses

A. Executive Order (E.O.) 12866 (Regulatory Planning and Review), E.O. 13563 (Improving Regulation and Regulatory Review), E.O. 14094 (Modernizing Regulatory Review), and DOT Regulatory Policies and Procedures

FMCSA has considered the impact of this final rule under E.O. 12866 (58 FR 51735, Oct. 4, 1993), Regulatory Planning and Review, E.O. 13563 (76 FR 3821, Jan. 21, 2011), Improving Regulation and Regulatory Review, and E.O. 14094 (88 FR 21879, Apr. 11, 2023) Modernizing Regulatory Review. The Office of Information and Regulatory Affairs within the Office of Management and Budget (OMB) determined that this final rulemaking is not a significant regulatory action under section 3(f) of E.O. 12866, as supplemented by E.O. 13563 and amended by E.O. 14094 and does not require an assessment of potential costs and benefits under section 6(a)(3) of that order. Accordingly, OMB has not reviewed it under that E.O.

This rule will update the reference at § 384.107 to the CDLIS State Procedures Manual, version c.0 manual. Specifically, it includes changes introduced to the FMCSRs as a result of the EEE and DACH II final rules. The rule solely defines processes and procedures which ensure that other regulations are uniformly implemented and imposes no new regulatory requirements. The rule will impose no new costs, and any benefits that will result from it are expected to be de minimis.

B. Congressional Review Act

This rule is not a major rule as defined under the Congressional Review Act (5 U.S.C. 801-808).⁵

⁵ A major rule means any rule that the OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 802(4)).

C. Regulatory Flexibility Act

The Regulatory Flexibility Act (5 U.S.C. 601 et seq.), as amended by the Small Business Regulatory Enforcement Fairness Act of 1996,⁶ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁶ Public Law 104-121, 110 Stat. 857, (Mar. 29, 1996).

When an Agency issues a proposed rule, the RFA requires the Agency to “prepare an initial regulatory flexibility analysis” that will describe the impact of the proposed rule on small entities (5 U.S.C. 604(a)). Section 605 of the RFA allows an agency to certify a rule, instead of preparing an analysis, if the rule is not expected to have a significant impact on a substantial number of small entities. This rule incorporates by reference the September 2023 edition of the AAMVA CDLIS SPM (version c.0). The changes to the 2023 edition of the AAMVA CDLIS SPM (version c.0) from the 2013 edition are intended to ensure clarity in the presentation of the SDLA conditions and are generally editorial or ministerial. As noted above, FMCSA does not expect the changes made in the September 2023 edition of the AAMVA CDLIS SPM (version c.0) to impose new costs or to result in quantifiable benefits, as it imposes no new regulatory requirements. The editorial and ministerial changes that result from this rule will apply to SDLA processes and procedures; SDLAs are not small entities. Consequently, I certify that this rule will not have a significant economic impact on a substantial number of small entities.

D. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If this final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

E. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $192 million (which is the value equivalent of $100 million in 1995, adjusted for inflation to 2022 levels) or more in any 1 year. This final rule will not result in such an expenditure, and the analytical requirements of UMRA do not apply as a result.

F. Paperwork Reduction Act

This final rule contains no new information collection requirements under the Paperwork Reduction Act of 1995 (44 U.S.C. 3501-3520).

G. E.O. 13132 (Federalism)

A rule has implications for federalism under section 1(a) of E.O. 13132 if it has “substantial direct effects on the States, on the relationship between the national government and the States, or on the distribution of power and responsibilities among the various levels of government.”

FMCSA has determined that this rule will not have substantial direct costs on or for States, nor will it limit the policymaking discretion of States. Nothing in this document preempts any State law or regulation. Therefore, this rule does not have sufficient federalism implications to warrant the preparation of a Federalism Impact Statement.

H. Privacy

The Consolidated Appropriations Act, 2005,¹⁴ requires the Agency to assess the privacy impact of a regulation that will affect the privacy of individuals. This rule will not require the collection of personally identifiable information (PII). The supporting Privacy Impact Analysis (PIA), available for review in the docket, gives a full and complete explanation of FMCSA practices for protecting PII in general and specifically in relation to this final rule.

The Privacy Act (5 U.S.C. 552a) applies only to Federal agencies and any non-Federal agency that receives records contained in a system of records from a Federal agency for use in a matching program.

The E-Government Act of 2002,¹⁵ requires Federal agencies to conduct a PIA for new or substantially changed technology that collects, maintains, or disseminates information in an identifiable form. No new or substantially changed technology will collect, maintain, or disseminate information as a result of this rule. Accordingly, FMCSA has not conducted a PIA.

In addition, the Agency submitted a Privacy Threshold Assessment (PTA) to evaluate the risks and effects the proposed rulemaking might have on collecting, storing, and sharing personally identifiable information. The PTA was adjudicated by DOT's Chief Privacy Officer on January 10, 2024.

I. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

J. National Environmental Policy Act of 1969

FMCSA analyzed this rule pursuant to the National Environmental Policy Act of 1969 (42 U.S.C. 4321, et seq.) and determined this action is categorically excluded from further analysis and documentation in an environmental assessment or environmental impact statement under FMCSA Order 5610.1 (69 FR 9680), Appendix 2, paragraphs 6(s) and 6(t). The Categorical Exclusions (CEs) in paragraphs 6(s) and (t) cover regulations regarding the CDL and related activities to assure CDL information is exchanged between States. The requirements in this rule are covered by these CEs.

List of Subjects in 49 CFR Part 384

Administrative practice and procedure, Alcohol abuse, Drug Abuse, Highway safety, Incorporation by reference, and Motor carriers.

In consideration of the foregoing, FMCSA amends part 384 of title 49, CFR as follows:

PART 384—STATE COMPLIANCE WITH COMMERCIAL DRIVER'S LICENSE PROGRAM

1. The authority citation for part 384 continues to read as follows:

Authority: 49 U.S.C. 31136, 31301 et seq., and 31502; secs. 103 and 215 of Pub. L. 106-159, 113 Stat. 1748, 1753, 1767; sec. 32934 of Pub. L. 112-141, 126 Stat. 405, 830; sec. 5524 of Pub. L. 114-94, 129 Stat. 1312, 1560; and 49 CFR 1.87.

2. Revise § 384.107 to read as follows:

§ 384.107 Matter incorporated by reference.

(a) Incorporation by reference. Certain material is incorporated by reference into this part with the approval of the Director of the Federal Register under 5 U.S.C. 552(a) and 1 CFR part 51. All approved incorporation by reference (IBR) material is available for inspection at FMCSA and at the National Archives and Records Administration (NARA). Contact FMCSA at the Department of Transportation Library, 1200 New Jersey Ave. SE, Washington, DC 20590-0001; phone: (202) 366-0746; website: https://transportation.libanswers.com. For information on the availability of this material at NARA, visit www.archives.gov/federal-register/cfr/ibr-locations or email fr.inspection@nara.gov. The material may be obtained from the sources in the following paragraph of this section.

(b) The American Association of Motor Vehicle Administrators (AAMVA), 4401 Wilson Boulevard, Suite 700, Arlington, VA 22203, (703) 522-1300, www.aamva.org.

(1) CDLIS State Procedures Manual c.0, SPEXS—State Pointer Exchange Services: CDLIS State Procedures Manual, Document Version c.0, released September 11, 2023; approved for §§ 384.225(f) and 384.231(d).

(2) [Reserved]

3. Amend § 384.301 by adding a new paragraph (p) to read as follows:

§ 384.301 Substantial compliance—general requirements.

* * * * *

(p) A State must come into substantial compliance with the requirements of subpart B of this part, which is effective as of July 15, 2024, as soon as practicable, but not later than August 22, 2024.

Issued under authority delegated in 49 CFR 1.87.
Sue Lawless,
Acting Deputy Administrator.

[FR Doc. 2024-12882 Filed 6-12-24; 8:45 am]

BILLING CODE 4910-EX-P